DEPARTMENT OF COMMERCE

National Oceanic and Atmospheric Administration

RIN 0648-XF148

Marine Mammals; File No. 20294

AGENCY: National Marine Fisheries Service (NMFS), National Oceanic and Atmospheric Administration (NOAA), Commerce.

ACTION: Notice; receipt of application.

SUMMARY: Notice is hereby given that Robert DiGiovanni, Jr., 6 Wakefield Rd. Hampton Bays, New York 11946, has applied in due form for a permit to conduct research on North Atlantic right whales (Eubalaena glacialis) and 44 other protected marine mammal and sea turtle species.

DATES: Written, telefaxed, or email comments must be received on or before February 17, 2017.

ADDRESSES: The application and related documents are available for review by selecting “Records Open for Public Comment” from the “Features” box on the Applications and Permits for Protected Species (APPS) home page, https://apps.nmfs.noaa.gov, and then selecting File No. 20294 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Courtney Smith or Amy Hapeman, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The applicant proposes to conduct aerial, vessel, and ground surveys of North Atlantic right whales (Eubalaena glacialis) and 44 other protected cetaceans, pinnipeds, and sea turtles in the Mid-Atlantic U.S. waters, from Massachusetts to North Carolina. Nine of the target species are threatened or endangered: North Atlantic right, blue (Balaenoptera musculus), fin (B. physalus), sei (B. borealis), and sperm (Physeter macrocephalus) whales; and green (Chelonia mydas), Kemp's ridley (Lepidochelys kempii), loggerhead (Caretta caretta), and leatherback (Dermochelys coriacea) sea turtles. Surveys will be conducted using fixed wing aircraft and vessels to assess seasonal abundance and distribution of marine mammals in the area. Ground surveys will be conducted on foot and with remote cameras to obtain counts of seals throughout different tidal cycles and to document prevalence of human interaction around seal haul-out sites accessible to the public. Seal scat will be collected for health assessment studies. The permit would be valid for five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: January 11, 2017.
Julia Harrison,
Chief, Permits and Conservation Division, Office of Protected Resources, National Marine Fisheries Service.

[FR Doc. 2017-00952 Filed 1-17-17; 8:45 am]

BILLING CODE 3510-22-P